DEPARTMENT OF TRANSPORTATION

Office of the Secretary

Aviation Proceedings, Agreements Filed the Week Ending January 14, 2005

The following Agreements Were Filed With the Department of Transportation Under the Provisions of 49 U.S.C. 412 and 414. Answers May Be Filed Within 21 Days After the Filing of the Application

Docket Number: OST-2005-20074.

Date Filed: January 10, 2005.

Parties: Members of the International Air Transport Association.

Subject:

PTC3 0798 dated 21 December 2004

TC3 Areawide Resolutions r1-r8

PTC3 0799 dated 21 December 2004

TC3 Within South Asian Subcontinent Resolutions r9-r18

PTC3 0800 dated 21 December 2004

TC3 Within South East Asia except between Malaysia and Guam Resolutions r19-r32

PTC3 0801 dated 21 December 2004

TC3 Within South East Asia between Malaysia and Guam Resolutions r33-r37

PTC3 0802 dated 21 December 2004

TC3 Within South West Pacific except between French Polynesia and American Samoa Resolutions r38-r48

PTC3 0803 dated 21 December 2004

TC3 Within South West Pacific between French Polynesia and American Samoa Resolutions r49-r52

PTC3 0804 dated 21 December 2004

TC3 South East Asia-South Asian Subcontinent Resolutions r53-r60

PTC3 0805 dated 21 December 2004

TC3 South Asian Subcontinent-South West Pacific Resolutions r61-r67

PTC3 0806 dated 21 December 2004

TC3 South East Asia-South West Pacific except between Malaysia and American Samoa Resolutions r68-r74

PTC3 0807 dated 21 December 2004

TC3 South East Asia-South West Pacific between Malaysia and American Samoa Resolutions r75-r80

PTC3 0808 dated 21 December 2004

TC3 Japan-Korea Resolutions r81-r92

PTC3 0809 dated 21 December 2004

TC3 Japan, Korea-South Asian Subcontinent Resolutions r93-r106

PTC3 0810 dated 21 December 2004

TC3 Japan, Korea-South West Pacific except between Korea (Rep. of) and American Samoa Resolutions r107-r161

PTC3 0811 dated 21 December 2004

TC3 Japan, Korea-South West Pacific between Korea (Rep. of) and American Samoa Resolutions r162-r166

Minutes: PTC3 0814 dated 11 January 2005

Tables: PTC3 Fares 0316 dated 21 December 2004

TC3 Within South Asian Subcontinent Fares Tables

PTC3 Fares 0317 dated 1 December 2004

TC3 Within South East Asia Fares Tables

PTC3 Fares 0318 dated 21 December 2004

TC3 Within South West Pacific Fares Tables

PTC3 Fares 0319 dated 21 December 2004

TC3 South East Asia-South Asian Subcontinent Fares Tables

PTC3 Fares 0320 dated 21 December 2004

TC3 South Asian Subcontinent-South West Pacific Fares Tables

PTC3 Fares 0321 dated 21 December 2004

TC3 South East Asia-South West Pacific Fares Tables

PTC3 Fares 0322 dated 21 December 2004

TC3 Japan-Korea Fares Tables

PTC3 Fares 0323 dated 21 December 2004

TC3 Japan, Korea-South Asian Subcontinent Fares Tables

PTC3 Fares 0324 dated 21 December 2004

TC3 Japan, Korea-South West Pacific Fares Tables

Intended effective date: 1 April 2005

Docket Number: OST-2005-20101.

Date Filed: January 13, 2005.

Parties: Members of the International Air Transport Association.

Subject:

PTC23 ME-TC3 0224 dated 14 January 2005

Mail Vote 429—Resolution 010e Special Passenger Amending Resolution between Middle East and Myanmar r1-r5

Intended effective date: 1 February 2005

Docket Number: OST-2005-20115.

Date Filed: January 14, 2005.

Parties: Members of the International Air Transport Association.

Subject:

Mail Vote 431—CTC COMP 0515 dated 14 January 2005

Resolution 010g—Special Amending Resolution—Cape Verde

Mail Vote 430—PTC COMP 1208 dated 14 January 2005

Establishing Passenger Fares and Related Charges—Cape Verde r1-r4

Intended effective date: 1 February 2005

Renee V. Wright,
Acting Program Manager, Alternate Federal Register Liaison.

[FR Doc. 05-2036 Filed 2-2-05; 8:45 am]

BILLING CODE 4910-62-P